DEPARTMENT OF THE TREASURY

Fiscal Service

AGENCY: Bureau of the Fiscal Service, Treasury.

ACTION: Notice of rate to be used for Federal debt collection, and discount and rebate evaluation.

SUMMARY: The Secretary of the Treasury is responsible for computing and publishing the percentage rate that is used in assessing interest charges for outstanding debts owed to the Government (The Debt Collection Act of 1982, as amended (codified at 31 U.S.C. Section 3717)). This rate is also used by agencies as a comparison point in evaluating the cost-effectiveness of a cash discount. In addition, this rate is used in determining when agencies should pay purchase card invoices when the card issuer offers a rebate (5 CFR 1315.8). Notice is hereby given that the applicable rate for calendar year 2016 is 1.00 percent.

DATES: January 1, 2016 through December 31, 2016.

FOR FURTHER INFORMATION CONTACT: E-Commerce Division, Bureau of the Fiscal Service, Department of the Treasury, 401 14th Street SW., Washington, DC 20227 (Telephone: 202-874-9428).

SUPPLEMENTARY INFORMATION: The rate reflects the current value of funds to the Treasury for use in connection with Federal Cash Management systems and is based on investment rates set for purposes of Public Law 95-147, 91 Stat. 1227 (October 28, 1977). Computed each year by averaging Treasury Tax and Loan (TT&L) investment rates for the 12-month period ending every September 30, rounded to the nearest whole percentage, for applicability effective each January 1. Quarterly revisions are made if the annual average, on a moving basis, changes by 2 percentage points. The rate for calendar year 2016 reflects the average investment rates for the 12-month period that ended September 30, 2015.

Dated: November 3, 2015.
John B. Hill,
Assistant Commissioner, Payment Management and Chief Disbursing Officer.

[FR Doc. 2015-28555 Filed 11-9-15; 8:45 am]

BILLING CODE 4810-AS-P